DEPARTMENT OF THE INTERIOR

Bureau of Land Management

[18XL1109AF LLUTG02000 L13100000.DO0000]

Notice of Termination of the San Rafael Swell Master Leasing Plan, Utah; Correction

AGENCY: Bureau of Land Management, Interior.

ACTION: Notice; correction.

SUMMARY: On July 13, 2018, the Bureau of Land Management published a Notice in the Federal Register terminating the San Rafael Swell Master Leasing Plan process. The name of the master leasing plan in the Notice was incorrect. This Notice corrects the name of the master leasing plan.

FOR FURTHER INFORMATION CONTACT: Chris Conrad, by telephone, 435-636-3600, or by email, cconrad@blm.gov.

Correction

In the Federal Register of July 13, 2018, in FR Doc. 2018-15016, on page 32681, correct the following:

• The title to read “Notice of Termination of the San Rafael Desert Master Leasing Plan, Utah;”

• the first sentence in the Summary section to read “The preparation of an Environmental Assessment associated with the San Rafael Desert Master Leasing Plan Amendment is no longer required, and the process is hereby terminated.”

• the Dates section to read “Termination of the planning process for the San Rafael Desert Master Leasing Plan Amendment takes effect immediately.”

Edwin L. Roberson,
State Director.

[FR Doc. 2018-24271 Filed 11-5-18; 8:45 am]

BILLING CODE 4310-DQ-P